DEPARTMENT OF THE INTERIOR

Fish and Wildlife Service

Notice of Availability of the Final Comprehensive Conservation Plan and Finding of No Significant Impact for St. Marks National Wildlife Refuge in Wakulla, Jefferson, and Taylor Counties, FL

AGENCY: Fish and Wildlife Service, Interior.

ACTION: Notice of availability.

SUMMARY: The Fish and Wildlife Service announces that a Final Comprehensive Conservation Plan and Finding of No Significant Impact for St. Marks National Wildlife Refuge in Wakulla, Jefferson, and Taylor Counties, Florida, is available for distribution. The plan was prepared pursuant to the National Wildlife Refuge System Improvement Act of 1997, and in accordance with the National Environmental Policy Act of 1969, and describes how the refuge will be managed for the next 15 years.

ADDRESSES: A copy of the plan may be obtained by writing: Mary Morris, Natural Resources Planner, St. Marks National Wildlife Refuge, P.O. Box 68, St. Marks, Florida 32355, or by calling: 850/925-6121. The plan may also be accessed and downloaded from the Service's Website: http://southeast.fws.gov/planning/, or from the refuge's Website: http://www.fws.gov./saintmarks/.

SUPPLEMENTARY INFORMATION: The availability of the Draft Comprehensive Conservation Plan and Environmental Assessment for a 60-day public review and comment period was announced in the Federal Register on January 20, 2006 (71 FR 3317). Three public meetings were held on February 16, 22, and 23, 2006, in Panacea, Crawfordville, and Tallahassee, Florida, respectively. At least 56 persons attended these public meetings. Numerous letters and e-mails were received from individuals and organizations expressing comments on the draft plan and environmental assessment. The draft plan and environmental assessment was circulated to ten agencies as part of the Florida Clearinghouse process. The Florida Department of Environmental Protection found the draft plan and environmental assessment consistent with the State's Coastal Management Program.

The draft plan and environmental assessment identified and evaluated three alternatives for managing the refuge. Alternative 1, the “status quo” alternative, would continue current management and public use. Alternative 2 would focus on enhancement of wildlife populations and related habitats and would provide visitors with more opportunities for wildlife-dependent recreation. Environmental education and outreach would expand under this alternative. Under Alternative 3, the biological programs of the refuge would be greatly enhanced.

Based on the environmental assessment and the comments received, the Service adopted Alternative 2 as its preferred alternative. The priority issues addressed under this alternative are: Habitat protection and land conservation; migratory birds; partnerships; fire and forest management; exotic, invasive, and nuisance species; wildlife inventory and monitoring; imperiled species management; visitor services; and wilderness and cultural resources protection.

The Service believes that Alternative 2 will best achieve national, ecosystem, and refuge-specific goals and objectives and positively address significant issues and concerns expressed by the public.

St. Marks National Wildlife Refuge was established in 1931 as a breeding ground for wild animals and birds. The refuge is situated along the Gulf coast of northwest Florida, about 25 miles south of Tallahassee. It currently covers about 69,155 acres with an approved acquisition boundary of 74,469 acres. Refuge personnel also manage 947 acres of State land and 334 acres of USDA Forest Service land within the approved acquisition boundary. The Wilderness Act designated 17,446 acres as the St. Marks Wilderness. The refuge aims to provide habitat for a natural diversity of plants and animals with a primary purpose of wildlife habitat conservation. The refuge is also being managed to provide opportunity for compatible wildlife-dependent recreation.

Authority: This notice is published under the authority of the National Wildlife Refuge System Improvement Act of 1997, Public Law 105-57.

Dated: July 5, 2006.
Cynthia K. Dohner,
Acting Regional Director.

Editorial note: This document was received at the Office of the Federal Register on 12-5-06.

[FR Doc. 06-9591 Filed 12-7-06; 8:45 am]

BILLING CODE 4310-55-M